DEPARTMENT OF COMMERCE

Minority Business Development Agency

Meeting of the National Advisory Council on Minority Business Enterprise

AGENCY: Minority Business Development Agency, U.S. Department of Commerce.

ACTION: Notice of open meeting.

SUMMARY: The National Advisory Council for Minority Business Enterprise (NACMBE) will hold its seventh meeting to discuss final recommendations in support of accelerating the growth of minority-owned businesses. The members of the Council will come to a consensus regarding the final recommendations to fulfill NACMBE's charter mandate in preparation for submission to the Secretary of the U.S. Department of Commerce. The agenda may change to accommodate Council business.

DATES: The meeting will be held on Thursday, December 6, 2012, from 9 a.m. to 5 p.m. Eastern Time (ET).

ADDRESSES: This meeting will be held at the Marriott Wardman Park Hotel, 2660 Woodley Road Northwest, Washington, DC 20008.

FOR FURTHER INFORMATION CONTACT: Demetria Gallagher, National Director's Office, Minority Business Development Agency (MBDA), U.S. Department of Commerce at (202) 482-1624 email: dgallagher@mbda.gov.

SUPPLEMENTARY INFORMATION: Background: The Secretary of Commerce established the NACMBE pursuant to his discretionary authority and in accordance with the Federal Advisory Committee Act, as amended (5 U.S.C. App. 2) on April 28, 2010. The NACMBE is to provide the Secretary of Commerce with recommendations from the private sector on a broad range of policy issues that affect minority businesses and their ability to access successfully the domestic and global marketplace.

Topics to be considered: During the meeting the Council will discuss and deliberate on final recommendations to accelerate the growth of minority-owned businesses in domestic and global markets. Recommendations for proposed programs and new policies are centered on the areas of focus of each subcommittee. The subcommittee topics include: (1) Definition of Minority Business Enterprises (MBEs) and MBDA's role, (2) Creation of an MBE Forum, and (3) Strategic Alliances and Exports.

Public Participation: The meeting is open to the public. Public seating is limited and available on a first-come, first-served basis. Members of the public wishing to attend the meeting must notify Demetria Gallagher at the contact information above by 5 p.m. EST on Monday, December 3, 2012, to preregister. Please specify any requests for reasonable accommodation at least ten (10) business days in advance of the meeting. Last minute requests will be accepted, but may not be possible to fulfill.

A limited amount of time, in the afternoon, will be available for pertinent brief oral comments from members of the public attending the meeting. Any member of the public may submit pertinent written comments concerning affairs of the NACMBE at www.mbda.gov/main/nacmbe-submit-comments. To be considered during the meeting, comments must be received no later than 5 p.m. ET on Tuesday, December 4, 2012, to ensure transmission to the Council prior to the meeting. Comments received after that date will be distributed to the members but may not be considered at the meeting.

This meeting is physically accessible to people with disabilities. Requests for sign language interpretation or other auxiliary aids should be directed to Demetria Gallagher, at (202) 482-1624, or dgallagher@mbda.gov, at least ten (10) days before the meeting date.

Copies of the NACMBE open meeting minutes will be available to the public upon request.

Dated: November 7, 2012.
David A. Hinson,
National Director, Minority Business Development Agency.

[FR Doc. 2012-27935 Filed 11-15-12; 8:45 am]

BILLING CODE 3510-21-P